DEPARTMENT OF COMMERCE

National Oceanic and Atmospheric Administration

Agency Information Collection Activities; Submission to the Office of Management and Budget (OMB) for Review and Approval; Comment Request; Recreational Angler Survey of Sea Turtle Interactions

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 18, 2021.

ADDRESSES: Interested persons are invited to submit written comments to Adrienne Thomas, NOAA PRA Officer, at Adrienne.thomas@noaa.gov. Please reference OMB Control Number 0648-0774 in the subject line of your comments. Do not submit Confidential Business Information or otherwise sensitive or protected information.

FOR FURTHER INFORMATION CONTACT: Requests for additional information or specific questions related to collection activities should be directed to Wendy Piniak, Biologist, NOAA National Marine Fisheries Service, Office of Protected Resources, 1315 East-West Highway, Silver Spring, Maryland 20910; (301) 427-8401; wendy.piniak@noaa.gov.

SUPPLEMENTARY INFORMATION:

I. Abstract

NOAA's National Marine Fisheries Service (NOAA Fisheries) proposes to revise and extend a currently approved information collection designed to assess the extent of hook and line interactions between recreational anglers on piers and other shore-based fishing locations and sea turtles. The collection comprises an Angler Intercept Survey, a Fishing Site Characterization Form, a Survey Cover Sheet, and a Sea Turtle Incidental Capture Form. The Angler Intercept Survey will be verbally administered on piers and shore-based fishing locations within NOAA Fisheries Greater Atlantic Region and Southeast Region, and will be administered to approximately 20,000 individual recreational fishermen. The respondents will be verbally asked a series of questions about their fishing practices and observations of sea turtles and the interviewer will record their answers. The survey will also assess the feasibility of an intercept survey for this purpose in terms of response rates and data collection. The Fishing Site Characterization Form will be completed by the survey administrator at each fishing location and collects information on the structure and operation of the pier or shore-based fishing location. The Site Characterization Sheet will be completed by the survey administrator during each survey period and collects information on the environmental conditions for that particular day, the number of anglers fishing, number of lines in the water, and the number of surveys completed. Sea Turtle Incidental Capture Form will be filled out by a Sea Turtle Stranding and Salvage Network participant when a turtle is incidentally captured, regardless of if the capture occurs during a specific survey period, and collects information on the specific interaction with fishing gear. This information is necessary to compare to the angler survey data, to identify if certain factors or fishing practices influence the rate of interactions. In this extension, minor revisions will be made to the Sea Turtle Incidental Capture Form to eliminate duplication with other sea turtle stranding data collection efforts.

II. Method of Collection

The survey will be implemented through verbal interviews.

III. Data

OMB Control Number: 0648-0774.

Form Number(s): None.

Type of Review: Extension of a current information collection.

Affected Public: Individuals or households.

Estimated Number of Respondents: 20,000.

Estimated Time per Response: 10 minutes for the Fishing Site Characterization Form, 5 minutes for the Survey Cover Sheet, 10 minutes for the Angler Intercept Survey, 5 minutes for the Sea Turtle Incidental Capture Form.

Estimated Total Annual Burden Hours: 1,134 hours.

Estimated Total Annual Cost to Public: $44,237.

Respondent's Obligation: Voluntary.

Legal Authority: Endangered Species Act (16 U.S.C. 1531 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments submitted in response to this notice are a matter of public record. We will include or summarize each comment in our request to OMB to approve this information collection request (ICR). Before including your address, phone number, email address, or other personal identifying information in your comment, be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-17804 Filed 8-18-21; 8:45 am]

BILLING CODE 3510-22-P